FEDERAL COMMUNICATIONS COMMISSION

[DA 02-1345]

Notification of Open Forum on Mitigation of Adverse Environmental Effects of WFUV(FM)'s Proposed Facility Modification on the New York Botanical Garden

AGENCY: Federal Communications Commission.

ACTION: Notice.

SUMMARY: On Thursday, June 27, 2002, the Audio Division, Media Bureau (the “Media Bureau”), will chair two open meetings to receive public comment regarding measures to mitigate the adverse environmental effects of WFUV(FM)'s proposed radio transmission tower on the nearby New York Botanical Garden (the “Garden”). Fordham University holds a permit for the construction of a 480-foot tower at the western edge of the University's campus, a short distance from the Garden's Enid A. Haupt Conservatory. The tower is partially constructed. The Commission previously determined that this tower would have an adverse impact on the Garden, a registered national historic site. As one mitigation measure, Fordham proposes to reduce the tower's height to 380 feet at the current location, a height that has been approved by the New York City Department of Buildings.

DATES: Thursday, June 27, 2002. The Garden will host the morning session from 10 a.m. until 12 noon. Fordham will host the afternoon session from 2 until 4 p.m.

ADDRESSES: Morning session at the Garden: in the courtyard immediately adjacent to the Haupt Conservatory, 200th Street and Kazimiroff Blvd., Bronx, New York. In the event of inclement weather, the session will be held in an enclosed tent also located adjacent to the conservatory.

Afternoon session at Fordham: McGinley Center Ballroom, 2d Floor, 441 East Fordham Road, Bronx, New York.

FOR FURTHER INFORMATION CONTACT: Michael Wagner, Audio Division, Media Bureau, Federal Communications Commission, (202) 418-2775.

SUPPLEMENTARY INFORMATION: Interested persons wishing further information about or directions to the morning meeting may contact Kathy Leake, (718) 817-8972.

Interested persons wishing further information about or directions to the afternoon session may contact either Joseph Muriana, Vice-President for Government and Urban Affairs, or Ms. DeeDee Alter, each at (718) 817-3020.

A sign-up sheet will be posted at each session for those wishing to comment. Attendees are requested to arrive one half hour prior to the start of the session in order to sign up and facilitate a timely start to the meeting.

Persons or entities that have received or have requested “Consulting Party” status (“Consulting Parties”) in this proceeding are invited to attend the sessions. This forum is designed to provide an opportunity for members of the public to express their views on mitigation measures, including site alternatives. Consulting Parties will be permitted to sign up to speak at the sessions, but will be given the opportunity to comment on a time-available basis only.

Information about the forum will be announced on station WFUV(FM) (90.7 MHz). Information also will be posted on the website of Fordham University (http://www.fordham.edu) and the New York Botanical Garden (http://www.nybg.org).

Federal Communications Commission.
Marlene H. Dortch,
Secretary.

[FR Doc. 02-15589 Filed 6-19-02; 8:45 am]

BILLING CODE 6712-01-P